DEPARTMENT OF TRANSPORTATION

Federal Aviation Administration

14 CFR Part 71

[Docket No. FAA-2012-0286; Airspace Docket No. 11-AWP-22]

RIN 2120-AA66

Establishment of Area Navigation (RNAV) Routes; Southwestern United States

AGENCY: Federal Aviation Administration (FAA), DOT.

ACTION: Final rule.

SUMMARY: This action establishes two new low-altitude RNAV routes, designated T-306 and T-310, in the southwestern United States. The new routes expand the availability of RNAV within the National Airspace System (NAS) and provide substitute route segments for portions of VOR Federal airways V-16 and V-202.

DATES: Effective date 0901 UTC, July 26, 2012. The Director of the Federal Register approves this incorporation by reference action under 1 CFR part 51, subject to the annual revision of FAA Order 7400.9 and publication of conforming amendments.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION:

History

On April 23, 2012, the FAA published in the Federal Register a notice of proposed rulemaking (NPRM) to establish two new RNAV routes in the southwestern United States (77 FR 24157).

Interested parties were invited to participate in this rulemaking effort by submitting written comments on the proposal. No comments objecting to the proposal were received.

The Rule

The FAA is amending Title 14, Code of Federal Regulations (14 CFR) part 71 establishing two RNAV routes, designated T-306 and T-310, in the southwestern United States. T-306 extends between Los Angeles, CA, and El Paso, TX; and T-310 extends between Tucson, AZ, and Truth or Consequences, NM. The routes expand the availability of RNAV within the NAS and provides substitute route segments for portions of VOR Federal airways V-16 and V-202 that will be affected by the scheduled decommissioning of the Cochise, NM, VORTAC in the Fall of 2012.

Low altitude RNAV routes are published in paragraph 6011 of FAA Order 7400.9V dated August 9, 2011, and effective September 15, 2011, which is incorporated by reference in 14 CFR 71.1. The RNAV routes listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it establishes RNAV routes to enhance the safe and efficient flow of traffic in the southwestern United States.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9V, Airspace Designations and Reporting Points, dated August 9, 2011, and effective September 15, 2011, is amended as follows:

Paragraph 6011 United States area navigation routes.

* * * * *

T-306 Los Angeles, CA (LAX) to El Paso, TX (ELP) [New]
Los Angeles, CA (LAX) | VORTAC | (Lat. 33°55′59″ N., long. 118°25′55″ W.)
PRADO, CA | INT | (Lat. 33°55′23″ N., long. 117°47′02″ W.)
Paradise, CA (PDZ) | VORTAC | (Lat. 33°55′06″ N., long. 117°31′48″ W.)
SETER, CA | INT | (Lat. 33°54′04″ N., long. 117°06′33″ W.)
BANDS, CA | INT | (Lat. 33°53′23″ N., long. 116°50′58″ W.)
Palm Springs, CA (PSP) | VORTAC | (Lat. 33°52′12″ N., long. 116°25′47″ W.)
Blythe, CA (BLH) | VORTAC | (Lat. 33°35′46″ N., long. 114°45′41″ W.)
Buckeye, AZ (BXK) | VORTAC | (Lat. 33°27′12″ N., long. 112°49′29″ W.)
PERKY, AZ | INT | (Lat. 33°26′45″ N., long. 112°28′23″ W.)
Phoenix, AZ (PXR) | VORTAC | (Lat. 33°25′59″ N., long. 111°58′13″ W.)
TOTEC, AZ | INT | (Lat. 32°49′36″ N., long. 111°38′32″ W.)
Tucson, AZ (TUS) | VORTAC | (Lat. 32°05′43″ N., long. 110°54′53″ W.)
NOCHI, AZ | WP | (Lat. 32°02′00″ N., long. 109°45′30″ W.)
ANIMA, AZ | INT | (Lat. 31°54′58″ N., long. 108°30′51″ W.)
DARCE, NM | INT | (Lat. 31°53′12″ N., long. 108°13′21″ W.)
Columbus, NM (CUS) | VOR/DME | (Lat. 31°49′09″ N., long. 107°34′28″ W.)
El Paso, TX (ELP) | VORTAC | (Lat. 31°48′57″ N., long. 106°16′55″ W.)

T-310 Tucson, AZ (TUS) to Truth or Consequences, NM (TCS) [New]
Tucson, AZ (TUS) | VORTAC | (Lat. 32°05′43″ N., long. 110°54′53″ W.)
SULLI, AZ | INT | (Lat. 31°56′04″ N., long. 110°34′16″ W.)
MESCA, AZ | INT | (Lat. 31°53′38″ N., long. 110°29′08″ W.)
NOCHI, AZ | WP | (Lat. 31°59′58″ N., long. 108°30′51″ W.)
San Simon, AZ (SSO) | VORTAC | (Lat. 32°16′09″ N., long. 109°15′47″ W.)
Silver City, NM (SVC) | VORTAC | (Lat. 32°38′16″ N., long. 108°09′40″ W.)
Truth or Consequences, NM (TCS) | VORTAC | (Lat. 33°16′57″ N., long. 107°16′50″ W.)

Issued in Washington, DC, on June 7, 2012.
Colby Abbott,
Acting Manager, Airspace, Regulations and ATC Procedures Group.

[FR Doc. 2012-14406 Filed 6-13-12; 8:45 am]

BILLING CODE 4910-13-P